DEPARTMENT OF AGRICULTURE

Forest Service

Notice of Resource Advisory Committee, Custer, SD

AGENCY: Forest Service, USDA.

ACTION: Notice of meeting.

SUMMARY: Pursuant to authorities in the Federal Advisory Committee Act (Public Law 92-463) and the Secure Rural Schools and Community Self determination Act of 2000 (Public Law 106-393), the Black Hills National Forest's Custer County Resource Advisory Committee will meet on Tuesday, August 15, 2006 in Custer, South Dakota for a business meeting. The meeting is open to the public.

SUPPLEMENTARY INFORMATION: The business meeting on August 15 will begin at 6 p.m. at the Black Hills National Forest Supervisor's office at 25041 North Highway 16, Custer, South Dakota. Agenda topics will include election of officers and discussion of potential projects.

FOR FURTHER INFORMATION CONTACT: Mike Lloyd, Hell Canyon District Ranger and Designated Federal Officer, at 605-673-4853.

Dated: August 1, 2006.
Michael D. Lloyd,
District Ranger.

[FR Doc. 06-6704 Filed 8-4-06; 8:45 am]

BILLING CODE 3410-11-M